DEPARTMENT OF AGRICULTURE

Food and Nutrition Service

Agency Information Collection Activities: Operational Challenges in Child Nutrition Programs (OCCNP) Surveys

AGENCY: Food and Nutrition Service (FNS), USDA.

ACTION: Notice.

SUMMARY: In accordance with the Paperwork Reduction Act of 1995, this notice invites the general public and other public agencies to comment on this proposed information collection.

This is a new collection focusing on Operational Challenges in Child Nutrition Programs and will utilize survey instruments for school years (SY) 2023-2024, SY 2024-2025, and SY 2025-2026. The studies encompassed under this information collection will collect data from institutions administering and operating Child Nutrition Programs such as State agencies, School Food Authorities (SFAs) and Child and Adult Care Food Program (CACFP) and Summer Food Service Program (SFSP) Sponsors, including information on emerging and ongoing operational challenges facing Child Nutrition Program operators.

DATES: Written comments must be received on or before July 7, 2023.

ADDRESSES: Comments may be sent to: Sarah Reinhardt, Food and Nutrition Service, U.S. Department of Agriculture, 1320 Braddock Pl., 5th floor, Alexandria, VA 22314. Comments may also be submitted via email to Sarah.Reinhardt@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Sarah Reinhardt at Sarah.Reinhardt@usda.gov, 703-305-2532.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Operational Challenges in Child Nutrition Programs (OCCNP) Surveys.

Form Number: N/A.

OMB Number: 0584-NEW.

Expiration Date: Not yet determined.

Type of Request: New collection.

Abstract: FNS administers the Child Nutrition (CN) Programs in partnership with States, local SFAs, other program sponsors, and local program operators. Section 28(a) of the Richard B. Russell National School Lunch Act authorizes the U.S. Department of Agriculture Secretary to conduct annual national performance assessments of the school meal programs and requires States and local entities participating in the programs to cooperate with program research and evaluations. FNS plans to collect periodic data to obtain information on operational challenges facing institutions who operate or administer child nutrition programs, including State agencies, SFAs and Summer Food Service Program (SFSP) Sponsors. The Operational Challenges in Child Nutrition Programs (OCCNP) Surveys, are designed to collect timely data on emerging school food service operational challenges, including but not limited to supply chain disruptions, food costs, and labor shortages, and/or related issues in SY 2023-2024, 2024-2025, and SY 2025-2026. Access to a timely and reliable source of data on these topics has become particularly important following the COVID-19 pandemic. In addition to changing the ways that school meal programs operated, the pandemic has contributed to lasting supply chain issues and substantial changes in the cost and availability of food and labor. The ability to collect this data will allow FNS to provide the best possible support to States and program sponsors and operators facing continued food service operations challenges and enable FNS to respond more quickly and effectively to potential disruptions in the future.

To administer the survey(s), FNS may first contact State agencies administering child nutrition programs to obtain current lists of the respondent population(s) of interest (e.g., SFAs, SFSP Sponsors, or CACFP Sponsors). In the case of SFAs and SFSP Sponsors, the list will be used to conduct a census; in the case of CACFP Sponsors, the list will be used to generate a representative sample of respondents. After identifying the appropriate respondent population(s), FNS with provide State agencies with a template survey support email to be distributed to the respondent population(s) in their respective States to provide information regarding the survey and express support for the data collection. If State agencies administering child nutrition programs and/or food distribution for these programs will also be considered survey respondents, these agencies will receive additional communications from FNS regarding their participation in the survey. FNS will then email the survey to respondent population(s) via the Qualtrics Survey Software platform or a similar software. The survey instrument will include content tailored to each respondent population, and will take approximately 20 minutes to complete.

Survey administration will be similar to the methods used for the SFA Survey II on School Food Supply Chain Disruption and Student Participation, which obtained emergency clearance for data collection in SY 2022-2023 and was cleared by the Office of Management and Budget on November 15, 2022 (SFA Survey II on School Food Supply Chain Disruption and Student Participation, OMB control number 0584-0677, expiration date 05/31/2023); however, this proposed data collection is different in that it is broader in scope than the previous emergency clearance, encompasses a broader potential audience, and focuses on different timeframes for collection in the future. Under the emergency information collection, data collection methods consisted of a web survey of all SFAs nationwide operating child nutrition programs in schools during SY 2022-2023, and was distributed to 18,843 SFAs based on contact information collected from the 56 CN agencies that administer CN Programs at the state level in the 50 States, District of Columbia, Guam, Puerto Rico, and the U.S. Virgin Islands.

Affected Public: State, Local, and Tribal Governments: Respondent groups identified may include: (1) State agencies administering child nutrition programs or food distribution for these programs, (2) SFA Directors, (3) SFSP Sponsors (government and private, not-for-profit), and (4) CACFP Sponsors (private, not-for-profit) from all 50 States, 5 territories and the District of Columbia.

Estimated Number of Respondents: The total estimated number of respondents per year is 21,511. This includes (1) 70 State Agency Directors (56 administering programs and 14 food distribution only); (2) 18,843 SFA Directors; (3) 1,663 SFSP Sponsors (government and non-profit private Sponsors, not including SFAs); and (4) 935 CACFP Sponsors (based on a representative sample of Sponsors, not including SFAs). Consistent with past approaches, each survey will engage nine pretest participants representative of the respondent population(s). For the purpose of estimating respondent burden, it is assumed that the pretest reflects participation on behalf of State Child Nutrition Directors; SFA Directors (government and private, not-for-profit business); SFSP Sponsors (government and private, not-for-profit business); and CACFP Sponsors (private, not-for-profit business). Pretest participants will be adjusted accordingly based on the needs and content of each survey and SFAs operating multiple child nutrition programs may be prioritized.

Estimated Number of Responses per Respondent: State Agency Director respondents will be asked to provide a current list of SFAs and/or Sponsors operating child nutrition programs, as needed, and distribute a survey support email to these respondent groups annually (three times total, in SY 2023-2024, SY 2024-2025, and SY 2024-2025). The selected respondent group(s) will be asked to complete the web survey once per year, though respondents operating more than one child nutrition program (e.g., SFAs that also serve as SFSP Sponsors) will be required to respond to survey questions for each program. To estimate the associated burden, we included separate lines in the burden estimate table to account for additional time SFAs may spend on surveys for SFSP or CACFP programs, respectively. There are 2,851 SFAs that also act as SFSP Sponsors; in the case of CACFP Sponsors, it is assumed that half of the representative sample of CACFP Sponsors (935 of 1,869 total) are also SFAs.

In the event of non-response, survey respondents will receive follow-up email correspondence and will be provided contact information for FNS survey support as needed. Similarly, State Agencies who do not provide contact information for SFAs/Sponsors upon request may receive email reminders until current lists have been obtained from all regions. FNS estimates that respondents will average 5.17 responses (111,123 responses/21,497 respondents) annually, for a total of 15.51 responses per respondent over the three year period.

Estimated Total Annual Responses: 111,123.

Estimated Time per Response: The estimated time per response ranges from 2 minutes (0.03 hours) to 20 minutes (.33 hours) depending on the instrument, as shown in the table below, with an average estimated time for all participants of 6 minutes (0.10 hours) per response.

Estimated Total Annual Burden on Respondents: 11,220.39 hours. See the table below for estimated total annual burden for each type of respondent.

Table 1—Annual Burden Estimate
Respondent category | Type of respondents (optional) | Instruments | Number of respondents | Frequency of response | Total annual responses | Hours per response | Annual burden (hours) | 3 Year burden (hours)
State Government | State Child Nutrition Directors | OCCNP Survey Support Email | 56 | 1 | 56 | 0.17 | 9.34 | 28.01
|  | Pretest | 1 | 1 | 1 | 0.83 | 0.83 | 2.50
|  | OCCNP Survey | 56 | 1 | 56 | 0.33 | 18.48 | 55.44
| State Food Distribution Agency | OCCNP Survey | 14 | 1 | 14 | 0.33 | 4.62 | 13.86
Local Government | SFA Directors | Pretest | 4 | 1 | 4 | 0.83 | 3.33 | 10.00
|  | OCCNP Survey Support Email | 15,260 | 1 | 15,260 | 0.03 | 508.16 | 1,524.47
|  | OCCNP Survey (SFAs) | 15,260 | 1 | 15,260 | 0.33 | 5,035.80 | 15,107.40
|  | OCCNP Survey (SFSP) | 2,851 | 1 | 2,851 | 0.33 | 940.83 | 2,822.49
|  | OCCNP Survey (CACFP) | 935 | 1 | 935 | 0.33 | 308.39 | 925.16
|  | Reminder Email | 15,260 | 2 | 30,520 | 0.03 | 1,016.32 | 3,048.95
|  | Thank You Email | 15,260 | 1 | 15,260 | 0.03 | 508.16 | 1,524.47
Government | SFSP Sponsors | Pretest | 1 | 1 | 1 | 0.83 | 0.83 | 2.50
|  | OCCNP Survey Support Email | 255 | 1 | 255 | 0.03 | 8.49 | 25.47
|  | OCCNP Survey | 255 | 1 | 255 | 0.33 | 84.15 | 252.45
|  | Reminder Email | 255 | 2 | 510 | 0.03 | 16.98 | 50.95
|  | Thank You Email | 255 | 1 | 255 | 0.03 | 8.49 | 25.47
State and Local Government Subtotal |  |  | 15,571 | 5.23 | 81,493 | 0.10 | 8,473.20 | 25,419.59
Private, Not-For-Profit Businesses | SFA Directors | Pretest | 1 | 1 | 1 | 0.83 | 0.83 | 2.50
|  | OCCNP Survey Support Email | 3,583 | 1 | 3,583 | 0.03 | 119.31 | 357.94
|  | OCCNP Survey | 3,583 | 1 | 3,583 | 0.33 | 1,182.39 | 3,547.17
|  | Reminder Email | 3,583 | 2 | 7,166 | 0.03 | 238.63 | 715.88
|  | Thank You Email | 3,583 | 1 | 3,583 | 0.03 | 119.31 | 357.94
Private, Not-For-Profit Businesses | SFSP Sponsors | Pretest | 1 | 1 | 1 | 0.83 | 0.83 | 2.50
|  | OCCNP Survey Support Email | 1,408 | 1 | 1,408 | 0.03 | 46.89 | 140.66
|  | OCCNP Survey | 1,408 | 1 | 1,408 | 0.33 | 464.64 | 1,393.92
|  | Reminder Email | 1,408 | 2 | 2,816 | 0.03 | 93.77 | 281.32
|  | Thank You Email | 1,408 | 1 | 1,408 | 0.03 | 46.89 | 140.66
Private, Not-For-Profit Businesses | CACFP Sponsors | Pretest | 1 | 1 | 1 | 0.83 | 0.83 | 2.50
|  | OCCNP Survey Support Email | 935 | 1 | 935 | 0.03 | 31.12 | 93.36
|  | OCCNP Survey | 935 | 1 | 935 | 0.33 | 308.39 | 925.16
|  | Reminder Email | 935 | 2 | 1,869 | 0.03 | 62.24 | 186.71
|  | Thank You Email | 935 | 1 | 935 | 0.03 | 31.12 | 93.36
Private, not-for-profit businesses subtotal |  | 5,926 | 5.00 | 29,631 | 0.09 | 2,747.19 | 8,241.57
Total |  | 21,497 | 5.1694 | 111,123 | 0.10 | 11,220.39 | 33,661.17

Tameka Owens,
Assistant Administrator, Food and Nutrition Service.

[FR Doc. 2023-09706 Filed 5-5-23; 8:45 am]

BILLING CODE 3410-30-P